DEPARTMENT OF HEALTH AND HUMAN SERVICES

Administration for Children and Families

[OMB No. 0970-0167]

Proposed Information Collection Activity; ACF-801: Child Care and Development Fund (CCDF) Quarterly Case-Level Report

AGENCY: Office of Child Care, Administration for Children and Families, HHS.

ACTION: Request for public comment.

SUMMARY: The Office of Child Care (OCC), Administration for Children and Families (ACF) is requesting a 3-year extension of the form ACF-801: CCDF Quarterly Case-Level Report (OMB #0970-0167, expiration 2/28/2022). OCC proposes minor changes to the response categories under the following three data elements: Child's gender, ethnicity, and race.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION:

Description: The ACF-801 provides monthly case-level data on the children and families receiving direct child care services under CCDF. The ACF-801 case-level data are reported either monthly or quarterly. OCC added “no response” categories under the following three data elements: Child's gender, ethnicity, and race.

Respondents: State and Territory Lead Agencies.

Annual Burden Estimates
Instrument | Total number of respondents | Annual number of responses per respondent | Average burden hours per response | Annual burden hours
ACF-801: CCDF Quarterly Case-Level Report | 56 | 4 | 25 | 5,600

Estimated Total Annual Burden Hours: 5,600.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 658K of the Child Care and Development Block Grant Act (42 U.S.C. 9858); regulations 45 CFR 98.70 and 98.71.

Mary B. Jones,
ACF/OPRE Certifying Officer.

[FR Doc. 2021-26272 Filed 12-2-21; 8:45 am]

BILLING CODE 4184-81-P